DEPARTMENT OF COMMERCE

International Trade Administration

[A-331-802]

Notice of Extension of Time Limit for the Preliminary Results of New Shipper Review: Certain Frozen Warmwater Shrimp from Ecuador

AGENCY: Import Administration, International Trade Administration, Department of Commerce

EFFECTIVE DATE: April 3, 2006.

FOR FURTHER INFORMATION CONTACT: David J. Goldberger or Gemal Brangman, AD/CVD Operations, Office 2, Import Administration, International Trade Administration, U.S. Department of Commerce, 14th Street and Constitution Avenue, NW, Washington, DC 20230; telephone: (202) 482-4136 or (202) 482-3773, respectively.

SUPPLEMENTARY INFORMATION:

Background

On October 3, 2005, the Department of Commerce (“the Department”) published the notice of initiation of this new shipper review of the antidumping duty order on frozen warmwater shrimp from Ecuador, covering the period August 4, 2004, through July 31, 2005. See Notice of Initiation of New Shipper Antidumping Duty Review: Certain Frozen Warmwater Shrimp from Ecuador, 70 FR 57562 (October 3, 2005). The preliminary results for this new shipper review are currently due no later than March 27, 2006.

Extension of Time Limits for Preliminary Results

Section 751(a)(2)(B)(iv) of the Tariff Act of 1930, as amended (“the Act”), and 19 CFR 351.214(i)(2), require the Department to issue preliminary results within 180 days after the date on which the new shipper review was initiated. However, if the Department concludes that the case is extraordinarily complicated, section 751(a)(2)(B)(iv) of the Act and 19 CFR 351.214(i)(2) allow the Department to extend the 180-day period to a maximum of 300 days.

Pursuant to section 751(a)(2)(B)(iv) of the Act and 19 CFR 351.214(i)(2), the

Department determines that this review is extraordinarily complicated. In particular, we recently issued the verification report and have determined that additional time is needed to fully evaluate items raised in the report, including the basis for normal value. Accordingly, we are extending the time period for issuing the preliminary results of review by an additional 120 days, or until July 26, 2006, in accordance with section 751(a)(2)(B)(iv) of the Act and 19 CFR 351.214(i)(2). The final results will be due 90 days after the date of issuance of the preliminary results, unless extended.

We are issuing and publishing this notice in accordance with sections 751(a)(2) and 777(i)(1) of the Act.

Dated: March 24, 2006.
Stephen J. Claeys,
Deputy Assistant Secretary for Import Administration.

[FR Doc. E6-4743 Filed 3-31-06; 8:45 am]

BILLING CODE 3510-DS-S